DEPARTMENT OF COMMERCE

National Oceanic and Atmospheric Administration

RIN 0648-XA635

New England Fishery Management Council; Public Meeting

AGENCY: National Marine Fisheries Service (NMFS), National Oceanic and Atmospheric Administration (NOAA), Commerce.

ACTION: Notice; public meeting.

SUMMARY: The New England Fishery Management Council (Council) is scheduling a public meeting of its Habitat/MPA/Ecosystem Committee in Augsut, 2011 to consider actions affecting New England fisheries in the exclusive economic zone (EEZ). Recommendations from this group will be brought to the full Council for formal consideration and action, if appropriate.

DATES: This meeting will be held on Tuesday, August 30, 2011 at 9 a.m.

ADDRESSES: This meeting will be held at the Best Western Wynwood Hotel, 580 US Highway 1, Interstate Traffic Circle, Portsmouth, NH 03801; telephone: (603) 436-7600; fax: (603) 436-7600.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Committee will continue development of options to minimize the adverse effects of fishing on essential fish habitat and will also continue development of alternatives to protect deep-sea corals from fishing, these options will be presented to the Council at the September meeting. The Committee will also review remaining essential fish habitat designation issues held over from previous meetings. Other business will be discussed at the discretion of the Chair.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: August 8, 2011.
Tracey L. Thompson,
Acting Director, Office of Sustainable Fisheries, National Marine Fisheries Service.

[FR Doc. 2011-20472 Filed 8-11-11; 8:45 am]

BILLING CODE 3510-22-P